DEPARTMENT OF HEALTH AND HUMAN SERVICES

National Institutes of Health

Office of the Director, National Institutes of Health; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: November 15, 2018.

Time: 8:30 a.m. to 4:30 p.m.

Agenda: The forty-ninth OARAC meeting will include review of the DHHS HIV/AIDS Treatment and Prevention Guidelines; the OAR Director's Report; updates on the OAR cost sharing activities with the National Institute on Aging, the FY2019/2020 Trans-NIH Plan for HIV-Related Research; other HIV/AIDS research activities across selected NIH Institutes; and public comment.

Place: National Institutes of Health, Conference Room 1D13, 5601 Fishers Lane, Rockville, MD 20892.

Contact Person: Jay R. Radke, Ph.D., Scientific Review Officer, Office of AIDS Research, National Institutes of Health, Ofc of the Director, 5601 Fishers Lane, Room 2E61 MSC-9834, Bethesda, MD 20892-9834, (240) 669-5046, jay.radke@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: October 19, 2018.
Natasha M. Copeland,
Program Analyst, Office of Federal Advisory Committee Policy.

[FR Doc. 2018-23263 Filed 10-24-18; 8:45 am]

BILLING CODE 4140-01-P